DEPARTMENT OF THE TREASURY

Fiscal Service

31 CFR Part 356

[Docket No. Fiscal-BPD-2013-0001]

Sale and Issue of Marketable Book-Entry Treasury Bills, Notes, and Bonds; Corrections

AGENCY: Fiscal Service, Treasury.

ACTION: Correcting amendments.

SUMMARY: The Department of the Treasury published a document in the Federal Register on July 31, 2013 (78 FR 46426), revising the Uniform Offering Circular to accommodate the public offering of floating rate notes. This document corrects the final regulations by revising an error in some equations and by restating a variable.

DATES: Effective September 26, 2013.

FOR FURTHER INFORMATION CONTACT: Lori Santamorena, Executive Director, or Chuck Andreatta, Associate Director, Government Securities Regulations Staff, Bureau of the Fiscal Service, Department of the Treasury, (202) 504-3632.

SUPPLEMENTARY INFORMATION: This is the third set of corrections. The first set of corrections was published in the Federal Register on August 19, 2013 (78 FR 50335). The second set of corrections was published in the Federal Register on August 27, 2013 (78 FR 52857). This document augments those corrections.

List of Subjects in 31 CFR Part 356

Bonds, Federal Reserve System, Government Securities, Securities.

Accordingly, 31 CFR part 356 is corrected by making the following correcting amendments:

PART 356—SALE AND ISSUE OF MARKETABLE BOOK-ENTRY TREASURY BILLS, NOTES, AND BONDS (DEPARTMENT OF THE TREASURY CIRCULAR, PUBLIC DEBT SERIES NO. 1-93)

1. The authority citation for part 356 continues to read as follows:

Authority: 5 U.S.C. 301; 31 U.S.C. 3102, et seq.; 12 U.S.C. 391.

2. In Appendix B to Part 356:

a. In Section IV, subsection C, in the Formula, remove the first equation

b. In Section IV, subsection C, in the Formula, remove the second equation

and add in its place

c. In Section IV, subsection D, in the Example, revise the first sentence of the introductory text and paragraph (b) to read as set forth below.

d. In Section IV, subsection E, in the Formula, remove the first equation

e. In Section IV, subsection E, in the Formula, remove the second equation

The revision reads as follows:

Appendix B to Part 356—Formulas and Tables

* * * * *

D. For calculating interest payments:

Example:

For a new issue of a two-year floating rate note auctioned on July 25, 2012, and issued on July 31, 2012, with a maturity date of July 31, 2014, and a first interest payment date of October 31, 2012, calculate the quarterly interest payments (IPi) per 100. * * *

* * * * *

(b) If it is a reopened floating rate note, and the interest payment is the first one after the reopening, then

* * * * *

Richard L. Gregg,
Fiscal Assistant Secretary.

[FR Doc. 2013-23428 Filed 9-25-13; 8:45 am]

BILLING CODE 4810-35-P